DEPARTMENT OF ENERGY

Federal Energy Regulatory Commission

Combined Notice of Filings #1

Take notice that the Commission received the following electric corporate filings:

Docket Numbers: EC16-184-000.

Applicants: WGP Acquisition, LLC, Lea Power Partners, LLC, Waterside Power, LLC, Badger Creek Limited, Chalk Cliff Limited, Double C Generation Limited Partnership, High Sierra Limited, Kern Front Limited, McKittrick Limited, Bear Mountain Limited, Live Oak Limited.

Description: Joint 203 Application for WPG Acquisition, LLC, et al.

Filed Date: 9/19/16.

Accession Number: 20160919-5193.

Comments Due: 5 p.m. ET 10/11/16.

Take notice that the Commission received the following electric rate filings:

Docket Numbers: ER10-2759-005; ER10-2732-011; ER10-2733-011; ER10-2734-011; ER10-2736-011; ER10-2737-011; ER10-2741-011; ER10-2749-011; ER10-2752-011; ER12-2492-007; ER12-2493-007; ER12-2494-007; ER12-2495-007; ER12-2496-007; ER14-264-002; ER10-2631-005; ER10-1437-004; ER13-815-003.

Applicants: Bridgeport Energy LLC, Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Maine, Rumford Power Inc., Tampa Electric Company, Tiverton Power LLC.

Description: Supplement to August 1, 2016 Notice of Change in Status of the Emera Entities, et al.

Filed Date: 8/17/16.

Accession Number: 20160817-5262.

Comments Due: 5 p.m. ET 9/30/16.

Docket Numbers: ER16-120-003.

Applicants: New York Independent System Operator, Inc.

Description: Compliance filing: NYISO compliance filing RMR tariff revision to be effective 10/20/2015.

Filed Date: 9/20/16.

Accession Number: 20160920-5002.

Comments Due: 5 p.m. ET 10/11/16.

Docket Numbers: ER16-2613-000.

Applicants: Antelope Big Sky Ranch LLC.

Description: § 205(d) Rate Filing: Antelope Big Sky Ranch LLC Amended SFA to be effective 9/20/2016.

Filed Date: 9/19/16.

Accession Number: 20160919-5141.

Comments Due: 5 p.m. ET 10/11/16.

Docket Numbers: ER16-2614-000.

Applicants: Antelope DSR 1, LLC.

Description: § 205(d) Rate Filing: Antelope DSR 1, LLC Amended SFA to be effective 9/20/2016.

Filed Date: 9/19/16.

Accession Number: 20160919-5142.

Comments Due: 5 p.m. ET 10/11/16.

Docket Numbers: ER16-2615-000.

Applicants: Antelope DSR 2, LLC.

Description: § 205(d) Rate Filing: Antelope DSR 2, LLC Amended SFA to be effective 9/20/2016.

Filed Date: 9/19/16.

Accession Number: 20160919-5143.

Comments Due: 5 p.m. ET 10/11/16.

Docket Numbers: ER16-2616-000.

Applicants: Antelope DSR 3, LLC.

Description: § 205(d) Rate Filing: Antelope DSR 3, LLC Amended SFA to be effective 9/20/2016.

Filed Date: 9/19/16.

Accession Number: 20160919-5144.

Comments Due: 5 p.m. ET 10/11/16.

Docket Numbers: ER16-2617-000.

Applicants: Bayshore Solar A, LLC.

Description: Baseline eTariff Filing: Bayshore Solar A, LLC SFA to be effective 9/20/2016.

Filed Date: 9/19/16.

Accession Number: 20160919-5145.

Comments Due: 5 p.m. ET 10/11/16.

Docket Numbers: ER16-2618-000.

Applicants: Bayshore Solar B, LLC.

Description: Baseline eTariff Filing: Bayshore Solar B, LLC SFA to be effective 9/20/2016.

Filed Date: 9/19/16.

Accession Number: 20160919-5146.

Comments Due: 5 p.m. ET 10/11/16.

Docket Numbers: ER16-2619-000.

Applicants: Bayshore Solar C, LLC.

Description: Baseline eTariff Filing: Bayshore Solar C, LLC SFA to be effective 9/20/2016.

Filed Date: 9/19/16.

Accession Number: 20160919-5147.

Comments Due: 5 p.m. ET 10/11/16.

Docket Numbers: ER16-2620-000.

Applicants: Elevation Solar C LLC.

Description: § 205(d) Rate Filing: Elevation Solar C LLC Amended SFA to be effective 9/20/2016.

Filed Date: 9/19/16.

Accession Number: 20160919-5148.

Comments Due: 5 p.m. ET 10/11/16.

Docket Numbers: ER16-2621-000.

Applicants: Solverde 1, LLC.

Description: § 205(d) Rate Filing: Solverde 1, LLC Amended SFA to be effective 9/20/2016.

Filed Date: 9/19/16.

Accession Number: 20160919-5149.

Comments Due: 5 p.m. ET 10/11/16.

Docket Numbers: ER16-2622-000.

Applicants: Western Antelope Blue Sky Ranch B LLC.

Description: § 205(d) Rate Filing: Western Antelope Blue Sky Ranch B LLC Amended SFA to be effective 9/20/2016.

Filed Date: 9/19/16.

Accession Number: 20160919-5150.

Comments Due: 5 p.m. ET 10/11/16.

Docket Numbers: ER16-2623-000.

Applicants: BTI Interconnection, LLC.

Description: Baseline eTariff Filing: Filing of Shared Facilities Agreement to be effective 9/20/2016.

Filed Date: 9/20/16.

Accession Number: 20160920-5000.

Comments Due: 5 p.m. ET 10/11/16.

Docket Numbers: ER16-2624-000.

Applicants: FPL Energy Wyman LLC.

Description: Baseline eTariff Filing: FPL Energy Wyman LLC and FPL Energy Wyman IV LLC Shared Facilities Agreement to be effective 10/1/2016.

Filed Date: 9/20/16.

Accession Number: 20160920-5054.

Comments Due: 5 p.m. ET 10/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2016.
Nathaniel J. Davis, Sr.,
Deputy Secretary.

[FR Doc. 2016-23159 Filed 9-23-16; 8:45 am]

BILLING CODE 6717-01-P